DEPARTMENT OF TRANSPORTATION

Pipeline and Hazardous Materials Safety Administration

Actions on Special Permit Applications

AGENCY: Office of Hazardous Materials Safety, Pipeline And Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1-Motor vehicle, 2-Rail freight, 3-Cargo vessel, 4-Cargo aircraft only, 5-Passenger-carrying aircraft. Application numbers prefixed by the letters EE represent applications for Emergency Special Permits. It should be noted that some of the sections cited were those in effect at the time certain special permits were issued.

Issued in Washington, DC, on January 8, 2015.
Donald Burger,
Chief, Special Permits and Approvals Branch.

S.P. No. | Applicant | Regulation(s) | Nature of special permit thereof
MODIFICATION SPECIAL PERMIT GRANTED
15866-M | Saft America Inc., Jacksonville, FL | 49 CFR 173.185 | To modify the special permit to authorize lithium metal batteries.
8451-M | Mustang Technology Group, Plano, TX | 49 CFR 173.60; 173.54; 175.3; 173.3; 174.3; 177.801; 173.52 | To modify the special permit to authorize a larger inside packaging (4-inch minimum X 14-inch minimum Schedule 80 seamless steel pipe nipple closed at both ends with forged steel end caps, 3,000 psi per ASTM 105, or other caps which have been shown by test to contain the explosive effect of 25 grams of PETN).
NEW SPECIAL PERMIT GRANTED
16155-N | B.J. Alan Company dba Phantom Fireworks, Canfield, OH | 49 CFR 172.101 Column (8C) and 173.62 | To authorize the transportation in commerce of certain fireworks in UN certified large packagings. (mode 1)
16121-N | U.S. Department of Defense (DOD), Scott AFB, IL | 49 CFR 171.23(a) and Packaging Instruction 200 of ICAO and P200 of IMDG | To authorize the transportation in commerce of certain composite fiberglass wrapped stainless steel high pressure cylinders containing argon, compressed. (modes 1, 2, 3, 4, 5)
16295-N | CYTEC INDUSTRIES INC., Woodland Park, NJ | 49 CFR 172.519(c) | To authorize the transportation in commerce of certain IBCs containing combustible liquids with a placard meeting the label specifications for size in § 172.407(c). (mode 1)
16195-N | Jaguar Instruments, Inc., Houston, TX | 49 CFR 173.302a and 173.304a | To authorize the manufacture, marking, sale and use of non-DOT specification cylinders made in conformance with DOT Specification 3E with exceptions, for shipment of certain Division 2.1 and Division 2.2 gases. (modes 1, 2, 3, 4)
16194-N | U.S. Department of Defense (DOD), Scott AFB, IL | 49 CFR 171.23(a) | To authorize the transportation in commerce of certain compressed gases in non-DOT specification pressure receptacles. (modes 1, 3, 4)
EMERGENCY SPECIAL PERMIT GRANTED
11536-M | Boeing Company, The, Los Angeles, CA | 49 CFR 173.102 Spec. Prov. 101, 173.24(g), 173.62, 173.185, 173.202; 173.211, and 173.304 | To modify the special permit to authorize new shipping and storage containers. (modes 1, 3, 4)
16340-N | Praxair Distribution Mid-Atlantic, LLC, Bethlehem, PA | 49 CFR 171.2 and 177.801 | To authorize the transportation in commerce of certain DOT cylinders marked with RIN A890 that have not been requalified in accordance with Subpart C of part 180. (mode 1)
NEW SPECIAL PERMIT WITHDRAWN
16344-N | Candle Lamp Company, LLC, Corona, CA | 49 CFR 173.304a(d)(3)(ii) | To authorize the transportation in commerce of a Division 2.1 hazardous materials in nonrefillable non-DOT specification inside container conforming with the DOT Specification 2P except for size, testing requirements and markings. (modes 1, 2, 3, 4)
16345-N | Katadyn North America Brooklyn Center, MN | 49 CFR 173.302a and 173.304a | To authorize the transportation in commerce of Division 2.1 hazardous materials in nonrefillable non-DOT specification inside containers conforming to DOT Specification 2P except for size, testing requirements and markings. (modes 1, 2, 3)
16342-N | Eniware LLC, Washington, DC | 49 CFR Special Provision A2 of the ICAO TI and Section 7.9.1 of the IMDG Code | To authorize the transportation in commerce of sterilization devices containing certain Division 2.3 gases as excepted quantities under § 173.4a. (modes 1, 2, 3, 4, 5)
16355-N | Universal Storage Systems, LLC, Colorado Springs, CO | 49 CFR 177.834(h), 178.509(b)(7) | To authorize the manufacture, mark, sale and use of UN 3H1 jerricans each with a maximum capacity exceeding 16 gallons. The discharge of liquid hazardous materials from these UN 3H1 jerricans without removing them from the vehicle on which they are transported is authorized. (mode 1)
DENIED
16153-M | Request by Trailers y Tanques de Aluminio S.A. de C.V. Mexico, December 5, 2014. To modify the special permit to authorize less restrictive inspection requirements.

[FR Doc. 2015-00678 Filed 1-21-15; 8:45 am]

BILLING CODE 4909-60-M